ENVIRONMENTAL PROTECTION AGENCY

[FRL-10020-80-Region 5]

Public Meeting for Great Lakes Advisory Board

AGENCY: Environmental Protection Agency (EPA).

ACTION: Notice of public meeting for Great Lakes Advisory Board.

SUMMARY: Pursuant to the Federal Advisory Committee Act (FACA), the Environmental Protection Agency (EPA) is announcing a public meeting of the Great Lakes Advisory Board on March 30th, 2021 from 1:00 p.m. to 4:00 p.m. Central Standard Time and March 31st from 9:00 a.m. to 12:00 p.m. Central Standard Time with remote participation only.

DATES: This virtual public meeting will be held on March 30th, 2021 from 1:00 p.m. to 4:00 p.m. Central Standard Time and March 31st from 9:00 a.m. to 12:00 p.m. Central Standard Time. Members of the public seeking to view the meeting (but not provide oral comments) must register by 3:00 p.m. Central Standard Time on March 26th, 2021. Members of the public seeking to make oral comments during the virtual meeting must register and indicate their request to make public comments by contacting the Designated Federal Officer (DFO) directly by 3:00 p.m. Central Standard Time on March 21st, 2021 to be placed on a list of registered commenters and receive special instructions for participation. For information on how to register, please see [How do I participate in the meeting] below.

FOR FURTHER INFORMATION CONTACT: Edlynzia Barnes, Designated Federal Officer (DFO), at barnes.Edlynzia@epa.gov or 312-886-6249.

SUPPLEMENTARY INFORMATION:

I. General Information

The GLAB is chartered in accordance with the Federal Advisory Committee Act (FACA) of 1972 (5 U.S.C., Appendix 2, as amended) and 41 CFR 102-3.50(d). The Advisory Board provides advice and recommendations on matters related to the Great Lakes Restoration Initiative. The Advisory Board also advises on domestic matters related to implementation of the Great Lakes Water Quality Agreement between the U.S. and Canada. The major objectives are to provide advice and recommendations on: Great Lakes protection and restoration activities; long-term goals, objectives, and priorities for Great Lakes protection and restoration; and other issues identified by the Great Lakes Interagency Task Force/Regional Working Group.

II. How do I participate in the remote public meeting?

A. Remote Meeting

This meeting will be conducted as a virtual meeting on March 30th, 2021 from 1:00 p.m. to 4:00 p.m. Central Standard Time and March 31st from 9:00 a.m. to 12:00 p.m. Central Standard Time. You must register by 3:00 p.m. Central Standard Time on March 26th, 2021 to receive information on how to participate. You may also submit written or oral comments for the committee by contacting the DFO directly per the processes outlined below.

B. Registration

To register and receive information on how to attend this virtual meeting, please send an email to the DFO at barnes.edlynzia@epa.gov with the SUBJECT line of “Request to Register for March 2021 GLAB Meeting” and include the following information: Name, Title, Organization, Email, and Phone Number. Attendees must register by 3:00 p.m. Central Standard Time on March 26th, 2021 to receive instructions for participation.

C. Procedures for Providing Public Comments

Oral Statements: In general, oral comments at this virtual conference will be limited to the Public Comments portions of the meeting agenda. Members of the public may provide oral comments limited to up to three minutes per individual or group and submit further information in written comments. Persons interested in providing oral statements should contact the DFO directly at barnes.edlyzia@epa.gov by 3:00 p.m. Central Standard Time on March 21st, 2021 with the SUBJECT line of “Request to Register for March 2021 GLAB Meeting—Provide Oral Statement” to be placed on the list of registered speakers and receive special instructions for participation. The following information should be included in the email: Name, Title, Organization, Email, and Phone Number. Oral commenters will be provided an opportunity to speak in the order in which their request was received by the DFO and to the extent permitted by the number of comments and the scheduled length of the meeting. Persons not able to provide oral comments during the meeting, will be given an opportunity to provide written comments after the meeting.

Written Statements: Persons interested in providing written statements pertaining to this committee meeting may email them to the DFO prior to 3:00 p.m. Central Standard Time on March 21st, 2021 with the SUBJECT line of “Request to Register for March 2021 GLAB Meeting—Provide A Written Statement”. The following information should be included in the email: Name, Title, Organization, Email, and Phone Number.

D. Availability of Meeting Materials

The meeting agenda and other materials for the virtual conference will be posted on the GLAB website at www.glri.us/glab.

E. Accessibility

Persons with disabilities who wish to request reasonable accommodations to participate in this event may contact the DFO at barnes.edlynzia@epa.gov or 312-886-6249 by 3:00 p.m. Central Standard Time on March 21st, 2021. All final meeting materials will be posted to the GLAB website in an accessible format following the meeting, as well as a written summary of this meeting.

Cheryl Newton,
Acting Regional Administrator, Great Lakes National Program Manager.

[FR Doc. 2021-04748 Filed 3-5-21; 8:45 am]

BILLING CODE 6560-50-P